DEPARTMENT OF COMMERCE

International Trade Administration

Notice of Scope Ruling Applications Filed in Antidumping and Countervailing Duty Proceedings

AGENCY: Enforcement and Compliance, International Trade Administration, Department of Commerce.

SUMMARY: The U.S. Department of Commerce (Commerce) received scope ruling applications, requesting that scope inquiries be conducted to determine whether identified products are covered by the scope of antidumping duty (AD) and/or countervailing duty (CVD) orders and that Commerce issue scope rulings pursuant to those inquiries. In accordance with Commerce's regulations, we are notifying the public of the filing of the scope ruling applications listed below in the month of March 2025.

DATES: Applicable May 2, 2025.

FOR FURTHER INFORMATION CONTACT: Terri Monroe, AD/CVD Operations, Customs Liaison Unit, Enforcement and Compliance, International Trade Administration, U.S. Department of Commerce, 1401 Constitution Avenue NW, Washington, DC 20230, telephone: (202) 482-1384.

SUPPLEMENTARY INFORMATION:

Notice of Scope Ruling Applications: In accordance with 19 CFR 351.225(d)(3), we are notifying the public of the following scope ruling applications related to AD and CVD orders and findings filed in or around the month of March 2025. This notification includes, for each scope application: (1) identification of the AD and/or CVD orders at issue (19 CFR 351.225(c)(1)); (2) concise public descriptions of the products at issue, including the physical characteristics (including chemical, dimensional and technical characteristics) of the products (19 CFR 351.225(c)(2)(ii)); (3) the countries where the products are produced and the countries from where the products are exported (19 CFR 351.225(c)(2)(i)(B)); (4) the full names of the applicants; and (5) the dates that the scope applications were filed with Commerce and the name of the ACCESS scope segment where the scope applications can be found.¹ This notice does not include applications which have been rejected and not properly resubmitted. The scope ruling applications listed below are available on Commerce's online e-filing and document management system, Antidumping and Countervailing Duty Electronic Service System (ACCESS), at https://access.trade.gov.

¹ See Regulations to Improve Administration and Enforcement of Antidumping and Countervailing Duty Laws, 86 FR 52300, 52316 (September 20, 2021) (Final Rule) (“It is our expectation that the Federal Register list will include, where appropriate, for each scope application the following data: (1) identification of the AD and/or CVD orders at issue; (2) a concise public summary of the product's description, including the physical characteristics (including chemical, dimensional and technical characteristics) of the product; (3) the country(ies) where the product is produced and the country from where the product is exported; (4) the full name of the applicant; and (5) the date that the scope application was filed with Commerce.”).

Scope Ruling Applications

Aluminum Extrusions from the People's Republic of China (China) (A-570-967/C-570-968); Wall Standoffs and Components Thereof (Wall Standoffs); ² produced in and exported from China; submitted by HTM MBS LLC (MBS); March 6, 2025; ACCESS scope segment “MBS Wall Standoffs.”

² The products are wall standoffs and components thereof. Wall standoffs are a collection of extruded aluminum fasteners that are used to attach media at a fixed distance from a mounting surface. Wall standoffs consist of a head with a permanently attached externally threaded shank, an open-ended internally threaded aluminum barrel, and silicon washers. If imported separately, the internally threaded cap is open at one end and attaches to the internally threaded barrel via an externally threaded rod. Wall standoffs and components thereof are imported in a variety of materials, types, shapes, sizes, colors, and finishes. Wall standoffs are available in either traditional or tamper proof versions. Tamper proof wall standoffs use reverse threading to achieve that characteristic. The diameters of the head's cap and of the barrel are the same and range from ½ to 1¼″. The diameter of the head's threaded shank ranges from ⅜ to 7/16″. The height of the cap potion of the head ranges from ⅜ to 3/16″. The head is only available in a cylindrical shape, but with two available edges, flat and rounded. The length of the internally threaded barrel ranges from ½ to 2½″. Notwithstanding the color, all wall standoffs are anodized. If imported separately, caps are available in either traditional or tamper proof versions, but barrels are only available in a traditional version. Tamper proof caps use a set screw that affixes to the rod through a hole in the side of the cap to achieve that characteristic. Cap diameters range from ¼ to 2″. Cap heights range from ⅛ to ⅝″. Cap internal threads range from 6-32 to 5/16-18. Cap shapes include cylindrical (flat or rounded edge), hexagonal (beveled edge), and square (beveled edge). Replacement heads are only available in a cylindrical shape (flat edge). Replacement head diameters range from ½ to 2″ and, regardless of diameter, are all 3/16″ high. The length of the internally threaded barrel ranges from ⅛ to 12″, and the internal thread ranges from 6-32 to 5/16-18. All caps, heads and barrels are anodized and available in a variety of colors.

Common Alloy Aluminum from China (A-570-073/C-570-074); Aluminum Foil Composite Panels; ³ produced in and exported from China; submitted by Aluminum Line Products Company (ALPCO); March 14, 2025; ACCESS scope segment “ALPCO Aluminum Foil Composite Panels.”

³ The products are aluminum composite panels consisting of a low-density polyethylene (LDPE) core sandwiched and permanently bonded between two aluminum foil sheets manufactured from 1100 alloy. The finished panels have a total thickness of 2.0 mm. Each aluminum foil sheet has a nominal thickness of 0.20 mm and an actual thickness less than 0.20 mm.

Aluminum Extrusions from China (A-570-967/C-570-968); LED Standoffs and LED Sign Clamps; ⁴ produced in and exported from China; submitted by MBS; March 14, 2025; ACCESS scope segment “LED Standoffs and Sign Clamps.”

⁴ The products are LED Standoff Kit consisting of either two or four cylindrical aluminum fasteners that are designed to attach media at a fixed distance from a mounting surface and enhance the media via LED lighting rings. In addition to the lighting ring, each LED Standoff includes an extruded aluminum cap with an externally threaded shank, and an extruded aluminum internally threaded barrel, a silicon washer, and a 120-volt transformer. The barrels attach to the mounting surface via other fasteners. The diameters of the cap and barrel are 1″. The length of the barrel is 1″. LED standoffs have a clear anodized finish. The cap's head is flat with a straight edge with a hole on the side to lock the cap to the barrel via a set screw. There is also a hole near the base of the barrel through which an insulated wire is run between the LED ring and the transformer. The height of the head part of the cap is 3/16″. The input voltage is 100-240VAC-50HZ. The output voltage is DC12V.

The Sign Clamp Mounting Kits consist of an aluminum bracket that is designed to attach media at a fixed distance from a mounting surface and enhance the media via an LED lighting string. In addition to the lighting string, each LED Sign Clamp Mounting Kit includes an extruded aluminum clamp, two extruded aluminum barrels, an electrical splitter, a low voltage transformer adapter, two screws with anchors, and one Allen wrench. The length of the clamp ranges from 3⅛ to 14 15/16″. The width and height of the clamp is 1″. The barrels are used to attach the clamp to the mounting surface via holes in the back of the clamp, other fasteners, and the Allen wrench. There is also a hole in the back of the clamp through which an insulated electrical cord runs to connect the lighting string to the power source. The clamps have a silver satin aluminum finish. The input voltage is 100-240VAC-50HZ. The output voltage is DC12V. The working current is 16mA.

Wooden Cabinets and Vanities and Components Thereof from China (A-570-106/C-570-107); Flow Wall Cabinets and Cabinet Accessories (Flow Wall Cabinets); ⁵ produced in and exported from China; submitted by RST Brands, LLC (RST); March 27, 2025; ACCESS scope segment “RST Brands, LLC Flow Wall Cabinets.”

⁵ The products are modular organizational systems that are comprised of patented panels and attachment accessories. The cabinets are made from MDF wood and cast steel.

Notification to Interested Parties

This list of scope ruling applications is not an identification of scope inquiries that have been initiated. In accordance with 19 CFR 351.225(d)(1), if Commerce has not rejected a scope ruling application nor initiated the scope inquiry within 30 days after the filing of the application, the application will be deemed accepted and a scope inquiry will be deemed initiated the following day—day 31.⁶ Commerce's practice generally dictates that where a deadline falls on a weekend, Federal holiday, or other non-business day, the appropriate deadline is the next business day.⁷ Accordingly, if the 30th day after the filing of the application falls on a non-business day, the next business day will be considered the “updated” 30th day, and if the application is not rejected or a scope inquiry initiated by or on that particular business day, the application will be deemed accepted and a scope inquiry will be deemed initiated on the next business day which follows the “updated” 30th day.⁸

⁶ In accordance with 19 CFR 351.225(d)(2), within 30 days after the filing of a scope ruling application, if Commerce determines that it intends to address the scope issue raised in the application in another segment of the proceeding (such as a circumvention inquiry under 19 CFR 351.226 or a covered merchandise inquiry under 19 CFR 351.227), it will notify the applicant that it will not initiate a scope inquiry, but will instead determine if the product is covered by the scope at issue in that alternative segment.

⁷ See Notice of Clarification: Application of “Next Business Day” Rule for Administrative Determination Deadlines Pursuant to the Tariff Act of 1930, As Amended, 70 FR 24533 (May 10, 2005).

⁸ This structure maintains the intent of the applicable regulation, 19 CFR 351.225(d)(1), to allow day 30 and day 31 to be separate business days.

In accordance with 19 CFR 351.225(m)(2), if there are companion AD and CVD orders covering the same merchandise from the same country of origin, the scope inquiry will be conducted on the record of the AD proceeding. Further, please note that pursuant to 19 CFR 351.225(m)(1), Commerce may either apply a scope ruling to all products from the same country with the same relevant physical characteristics, (including chemical, dimensional, and technical characteristics) as the product at issue, on a country-wide basis, regardless of the producer, exporter, or importer of those products, or on a company-specific basis.

For further information on procedures for filing information with Commerce through ACCESS and participating in scope inquiries, please refer to the Filing Instructions section of the Scope Ruling Application Guide, at https://access.trade.gov/help/Scope_Ruling_Guidance.pdf. Interested parties, apart from the scope ruling applicant, who wish to participate in a scope inquiry and be added to the public service list for that segment of the proceeding must file an entry of appearance in accordance with 19 CFR 351.103(d)(1) and 19 CFR 351.225(n)(4). Interested parties are advised to refer to the case segment in ACCESS as well as 19 CFR 351.225(f) for further information on the scope inquiry procedures, including the timelines for the submission of comments.

Please note that this notice of scope ruling applications filed in AD and CVD proceedings may be published before any potential initiation, or after the initiation, of a given scope inquiry based on a scope ruling application identified in this notice. Therefore, please refer to the case segment on ACCESS to determine whether a scope ruling application has been accepted or rejected and whether a scope inquiry has been initiated.

Interested parties who wish to be served scope ruling applications for a particular AD or CVD order may file a request to be included on the annual inquiry service list during the anniversary month of the publication of the AD or CVD order in accordance with 19 CFR 351.225(n) and Commerce's procedures.⁹

⁹ See Scope Ruling Application; Annual Inquiry Service List; and Informational Sessions, 86 FR 53205 (September 27, 2021).

Interested parties are invited to comment on the completeness of this monthly list of scope ruling applications received by Commerce. Any comments should be submitted to Scot Fullerton, Acting Deputy Assistant Secretary for AD/CVD Operations, Enforcement and Compliance, International Trade Administration, via email to CommerceCLU@trade.gov.

This notice of scope ruling applications filed in AD and CVD proceedings is published in accordance with 19 CFR 351.225(d)(3).

Dated: April 25, 2025.
Scot Fullerton,
Acting Deputy Assistant Secretary for Antidumping and Countervailing Duty Operations.

[FR Doc. 2025-07581 Filed 5-1-25; 8:45 am]

BILLING CODE 3510-DS-P